DEPARTMENT OF HEALTH AND HUMAN SERVICES

[Document Identifier: OS-0990-New; 30-day notice]

Agency Information Collection Request; 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 30-days.

Proposed Project: Evaluation of the IT Professionals in Health Care: University-Based Training—OMB No. 0090-NEW-ONC

Abstract: Currently, the Office of the National Coordinator for Health Information Technology's (ONC) Office of Economic Analysis, Evaluation, and Modeling is soliciting comments on a series of data collection efforts for the Evaluation of the IT Professionals in Health Care: University-Based Training. The Workforce Program, created under Section 3016 of the HITECH Act, was intended to provide “assistance to institutions of higher education (or consortia thereof) to establish or expand health informatics education programs, including certification, undergraduate, and masters degree programs, for both health care and information technology students.” The evaluation of the Workforce Program is a new information collection activity which will explore program challenges, provide critical formative feedback to the Workforce grantee institutions on their activities, and determine whether the Workforce Program overall was successful in helping to build a skilled workforce equipped to meet the heightened demands of the current environment. The data collection efforts include a web-based baseline survey and a web-based follow-up survey of university students.

ONC is interested in developing a comprehensive understanding of the planning, implementation, and effectiveness of the Workforce Grant Program. The evaluation will determine how the Workforce Grant Program has contributed to the development of comprehensive, integrated health IT training programs across community colleges, universities, and other programs. This study will use surveys and other forms of data collection, such as focus groups and interviews, to assess the outcomes associated with participation in the program and to provide useful feedback to the Workforce grantee institutions for continuous improvement. The data collection efforts include a web-based baseline survey and a web-based follow-up survey of university students enrolled in ONC funded programs.

The anticipated data collection will begin in June 2011. Data collection will occur continuously through the 24 months of the campaign. The data collected will help identify program challenges, provide critical formative feedback to the Workforce grantee institutions on their activities, and determine whether the Workforce Program overall was successful in helping to build a skilled workforce equipped to meet the heightened demands of the current environment.

Estimated Annualized Burden Table
Forms | Type of respondent | Number of respondents | Number of responses per respondent | Average burden hours per response | Total burden hours
Web-based UBT Student Baseline Survey | Students enrolled in university-based Workforce program | 634 | 1 | 20/60 | 209
Web-based UBT Student Follow-up Survey | Students enrolled in university-based Workforce program | 634 | 1 | 20/60 | 209
Total |  |  |  |  | 418

Mary Forbes,
Office of the Secretary, Paperwork Reduction Act Reports Clearance Officer.

[FR Doc. 2011-9062 Filed 4-13-11; 8:45 am]

BILLING CODE 4150-45-P